DEPARTMENT OF HEALTH AND HUMAN SERVICES

Centers for Disease Control and Prevention

[Program Announcement 03098]

Cooperative Agreement for the Development and Support of Core Public Health Functions Related to Injury Prevention and Control; Notice of Availability of Funds

Application Deadline: July 28, 2003.

A. Authority and Catalog of Federal Domestic Assistance Number

This program is authorized under sections 301(a), 391, 392, and 393 of the Public Health Service Act, (42 U.S.C. sections 241(a), 247b, 280b, 280b-1, and 280b-1a), as amended, including Public Law 104-166. The Catalog of Federal Domestic Assistance number is 93.136.

B. Purpose

The Centers for Disease Control and Prevention (CDC) announces the availability of fiscal year (FY) 2003 funds for a cooperative agreement program for the Development and Support of Core Public Health Functions Related to Injury Prevention and Control. This program addresses the “Healthy People 2010” focus areas of Injury and Violence Prevention.

The purpose of the program is to determine and respond to the training, information, education, research, surveillance, program implementation, and evaluation needs required to build or expand public health injury prevention and control capacity at the State and territorial level.

Measurable outcomes of the program will be in alignment with one or more of the following performance goals for the National Center for Injury Prevention and Control (NCIPC):

—Increase the capacity of injury prevention and control programs to address the prevention of injuries and violence.

—Monitor and detect fatal and non-fatal injuries.

C. Eligible Applicants

Applications may be submitted by public and private nonprofit and for profit organizations and by governments and their agencies; that is, universities, colleges, technical schools, research institutions, hospitals, other public and private nonprofit and for profit organizations, community-based organizations, faith-based organizations, state and local governments or their bona fide agents, including the District of Columbia, the Commonwealth of Puerto Rico, the Virgin Islands, the Commonwealth of the Northern Mariana Islands, American Samoa, Guam, the Federated States of Micronesia, the Republic of the Marshall Islands, and the Republic of Palau, federally recognized Indian tribal governments, Indian tribes, or Indian tribal organizations, and small, minority, and/or women-owned businesses.

Minimum applicant qualification:

—Experience conducting reviews of State/Territorial public health injury prevention and control programs against defined standards.

Note: Title 2 of the United States Code section 1611 states that an organization described in section 501(c)(4) of the Internal Revenue Code that engages in lobbying activities is not eligible to receive Federal funds constituting an award, grant or loan.

D. Funding

Availability of Funds

Approximately $383,898 is available in FY 2003 to fund one award. It is expected that the award will begin on or about September 15, 2003 and will be made for a 12-month budget period within a project period of up to five years. Funding estimates may change.

Continuation awards within an approved project period will be made on the basis of satisfactory progress as evidenced by required reports and the availability of funds.

Recipient Financial Participation

Matching funds are not required for this program.

E. Program Requirements

In conducting activities to achieve the purpose of this program, the recipient will be responsible for the activities listed in 1. Recipient Activities, and CDC will be responsible for the activities listed in 2. CDC Activities.

1. Recipient Activities:

a. Assess current, and anticipate future, State injury program and staff training needs and assist in the development of regional and national training programs in areas such as injury evaluation capacity, surveillance and data needs, policy development, translation of proven interventions, and program implementation.

b. Develop, refine, and update models for State injury prevention and control programs, identifying both minimum capability and structure and definition of advanced State injury control components. Measure State and territorial injury prevention capacity against standards derived from these models.

c. Develop a peer-based technical assistance network and provide assistance to State and territorial health departments in the roles and function of injury prevention and control programs and units. This may include onsite visits in which assistance and recommendations will be provided to improve the structure of injury programs.

d. Develop and submit to each State, territorial public health agency, and CDC a report of the condition of injury control and prevention in the States and territories. Submit reports on particular injury topics as necessary to facilitate translation of the state-of-the-art for the injury field.

e. Develop and disseminate materials and conduct/sponsor training or conferences/meetings to address identified needs or topics. Implement plans for educating public health injury staff regarding topics of increasing interest, such as the National Violent Death Reporting System.

f. Conduct scientific and programmatic meetings, workshops, sessions, and briefings to disseminate information, gain input or support for injury plans or strategies, or educate injury staff and associated policy makers on current injury developments and topics. Content should be inclusive of the breadth of the injury field and include the state-of-the-art in topics of interest.

g. Strengthen existing collaboration with organizations such as the Association of State and Territorial Health Officials and its affiliates, the National Association of County and City Health Officials, the National Association of Local Boards of Health, the National Association of Injury Control Research Centers, injury prevention and control specialist in managed care, and other organizations related to injury prevention and control research, practice, and professional preparation and training.

2. CDC Activities:

a. Provide continuing updates on scientific, operational, policy, and funding developments related to injury prevention and control.

b. Provide assistance in determination of methods and processes for supplying peer-based technical assistance to States, networks, and injury practitioners.

c. Provide assistance in the selection and performance of topics, audiences, and locations for State, regional, or multi-state meetings, workshops, sessions, or briefings.

d. Provide information and assistance relative to defining the scope of injury-related training and information needs at the State and territorial level, and provide scientific and programmatic review of materials proposed to address such needs.

e. Provide assistance in planning, conducting, and evaluating injury prevention and control activities, in identifying regional networks, and in identifying relevant groups for development of collaborative arrangements.

F. Content

Applications

The Program Announcement title and number must appear in the application. Use the information in the Program Requirements, Other Requirements, and Evaluation Criteria sections to develop the application content. Your application will be evaluated on the criteria listed, so it is important to follow them in laying out your program plan. The narrative should be no more than 30 pages, double-spaced, printed on one side, with one-inch margins, and unreduced 12-point font.

The narrative should consist of, at a minimum, an Abstract, Table of Contents, the Background and Coordination, Scope, Goals, and Objectives, Operational Plan, Administration and Management, Evaluation, and Budget. The operational plan must cover activities to be conducted over the entire five year project period.

G. Submission and Deadline

Application Forms

Submit the signed original and two copies of PHS 5161 (OMB Number 0920-0428). Forms are available at the following Internet address: http://www.cdc.gov/od/pgo/forminfo.htm.

If you do not have access to the Internet, or if you have difficulty accessing the forms on-line, you may contact the CDC Procurement and Grants Office Technical Information Management Section (PGO-TIM) at: 770-488-2700. Application forms can be mailed to you.

Submission Date, Time, and Address

The application must be received by 4 p.m. Eastern Time July 28, 2003. Submit the application to: Technical Information Management-PA03098, CDC Procurement and Grants Office, 2920 Brandywine Road, Atlanta, GA 30341-4146.

Applications may not be submitted electronically.

CDC Acknowledgement of Application Receipt

A postcard will be mailed by PGO-TIM, notifying you that CDC has received your application.

Deadline

Applications shall be considered as meeting the deadline if they are received before 4 p.m. Eastern Time on the deadline date. Any applicant who sends their application by the United States Postal Service or commercial delivery services must ensure that the carrier will be able to guarantee delivery of the application by the closing date and time. If an application is received after closing due to (1) carrier error, when the carrier accepted the package with a guarantee for delivery by the closing date and time, or (2) significant weather delays or natural disasters, CDC will upon receipt of proper documentation, consider the application as having been received by the deadline.

Any application that does not meet the above criteria will not be eligible for competition, and will be discarded. The applicant will be notified of their failure to meet the submission requirements.

H. Evaluation Criteria

Applicants are required to provide measures of effectiveness that will demonstrate the accomplishment of the various identified objectives of the cooperative agreement. Measures of effectiveness must relate to the performance goals stated in the purpose section of this announcement. Measures must be objective and quantitative and must measure the intended outcome. These measures of effectiveness must be submitted with the application and will be an element of evaluation.

An independent review group appointed by CDC will evaluate each application against the following criteria:

1. Operational Plan (30 Points). The extent to which the applicant provides an operational plan that addresses achievement of each of the objectives proposed. Does the applicant provide a description of each component or major activity, how it relates to objectives, and how it will be accomplished? Does the plan include a detailed time-line for completion of each component or major activity? Does the plan cover the entire five-year project period?

2. Background and Coordination (25 points). The extent to which the applicant demonstrates successful experience in related projects, and describes the context and needs related to the purpose of this program announcement. The extent to which the applicant demonstrates a relationship with public health injury professionals at the State and territorial level and with regional and national injury and public health groups and organizations.

3. Administration and Management (20 Points). The extent to which the organizational structure is described and to which adequate management control systems are in place. Is proposed staffing and the relationship to public health injury staff in each State and territory adequate for completion of all activities under this program announcement?

4. Evaluation and Plan (15 Points). The extent to which the evaluation plan provides an adequate basis for monitoring, evaluating, and reporting results for proposed activities. Will the proposed evaluation system be specific and sensitive enough to rapidly identify areas of needed change?

5. Scope, Goals, and Objectives (10 Points). The extent to which the applicant provides relevant long-term goals and short-term objectives that are specific, measurable, time-phased, and achievable. Will achievement of these objectives lead to fulfillment of the stated purpose of this announcement?

6. Budget (not scored). The extent to which the budget is reasonable, clearly justified, and consistent with stated objectives and proposed activities.

7. Performance Goals (not scored). The extent to which measures of effectiveness are included and address those areas identified in the purpose section of this announcement.

I. Other Requirements

Technical Reporting Requirements

Provide CDC with original plus two copies of:

1. Interim progress report, due April 15 of each year within the project period. The progress report will serve as your non-competing continuation application, and must contain the following elements:

a. Current Budget Period Activities and Objectives.

b. Current Budget Period Financial Progress.

c. New Budget Period Program Proposed Activities and Objectives.

d. Detailed Line-Item Budget and Justification.

e. Additional Requested Information.

2. Financial status report, no more than 90 days after the end of the budget period.

3. Final financial and performance reports, no more than 90 days after the end of the project period.

Send all reports to the Grants Management Specialist identified in the “Where to Obtain Additional Information” section of this announcement.

Additional Requirements

The following additional requirements are applicable to this program. For a complete description of each, see Attachment I of the program announcement, as posted on the CDC Web site.

AR-8—Public Health System Reporting Requirements

AR-10—Smoke-Free Workplace

AR-11—Healthy People 2010

AR-12—Lobbying Restrictions

AR-13—Prohibition on Use of CDC Funds for Certain Gun Control Activities

AR-14—Accounting System Requirements

AR-15—Proof of Non-Profit Status

Executive Order 12372 does not apply to this program.

J. Where To Obtain Additional Information

This and other CDC announcements, the necessary applications, and associated forms can be found on the CDC Web site, Internet address: http://www.cdc.gov.

Click on “Funding” then “Grants and Cooperative Agreements''.

For general questions about this announcement, contact: Technical Information Management, CDC Procurement and Grants Office, 2920 Brandywine Road, Atlanta, GA 30341-4146, Telephone: 770-488-2700.

For business management and budget assistance, contact: Angie Nation, Grants Management Specialist, Procurement and Grants Office, Centers for Disease Control and Prevention, 2920 Brandywine Road, Atlanta, GA 30341-4146, Telephone: 770-488-2719, E-mail address: aen4@cdc.gov.

For business management and budget assistance in the territories, contact: Charlotte L. Flitcraft, Contract Specialist, Procurement and Grants Office, Centers for Disease Control and Prevention, 2920 Brandywine Rd., Atlanta, GA 30341-4146, Telephone: 770-488-2632, E-mail address: caf5@cdc.gov.

For program technical assistance, contact: James A. Enders, MPH, National Center for Injury Prevention and Control, Centers for Disease Control and Prevention, 4770 Buford Highway, Mailstop F-41, Atlanta, Georgia, 30341-3724, Phone Number: 770 488-1254, e-mail address: jee3@cdc.gov.

Dated: June 20, 2003.
Sandra R. Manning,
Director, Procurement and Grants Office, Centers for Disease Control and Prevention.

[FR Doc. 03-16146 Filed 6-25-03; 8:45 am]

BILLING CODE 4163-18-P